DEPARTMENT OF COMMERCE

National Oceanic and Atmospheric Administration

[I.D. 110206D]

Endangered and Threatened Species; Take of Anadromous Fish

AGENCY: National Marine Fisheries Service (NMFS), National Oceanic and Atmospheric Administration (NOAA), Commerce.

ACTION: Issuance of scientific research permits.

SUMMARY: Notice is hereby given that NMFS has issued Permit 1045 Modification 1 to Dr. Michael H. Fawcett (M. Fawcett) in Bodega, CA; and Permit 1046 Modification 2 to the National Park Service (NPS) in Point Reyes, CA. This notice is relevant to federally endangered Central California Coast coho salmon (Oncorhynchus kisutch), threatened California Coastal Chinook salmon (O. tshawytscha), threatened Northern California steelhead (O. mykiss), and threatened Central California Coast steelhead (O. mykiss).

ADDRESSES: The applications, permits, and related documents are available for review by appointment at: Protected Resources Division, NMFS, 777 Sonoma Avenue, Room 315, Santa Rosa, CA 95404 (ph: 707-575-6097, fax: 707-578-3435, e-mail at: Jeffrey.Jahn@noaa.gov).

FOR FURTHER INFORMATION CONTACT: Jeffrey Jahn at 707-575-6097, or e-mail: Jeffrey.Jahn@noaa.gov.

SUPPLEMENTARY INFORMATION:

Authority

The issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations (50 CFR parts 222-226) governing listed fish and wildlife permits.

Species Covered in This Notice

This notice is relevant to federally endangered Central California Coast coho salmon (Oncorhynchus kisutch), threatened California Coastal Chinook salmon (O. tshawytscha), threatened Northern California steelhead (O. mykiss), and threatened Central California Coast steelhead (O. mykiss).

Permits Issued

Permit 1045 Modification 1 was issued to M. Fawcett on October 30, 2006, authorizing capture (by seine), handling, sampling and marking (by collection of fin-clips), and release of juvenile Central California Coast coho salmon, California Coastal Chinook salmon, Northern California steelhead, and Central California Coast steelhead. Permit 1045 Modification 1 is for research to be conducted in the Russian River and Salmon Creek watersheds in Sonoma County, California, as well as numerous coastal streams between Gualala River and Estero Americano in Sonoma County, California. Permit 1045 Modification 1 does not authorize take of adult ESA-listed salmonids or intentional lethal take of ESA-listed salmonids. Permit 1045 Modification 1 authorizes unintentional lethal take of juvenile ESA-listed salmonids associated with research activities not to exceed 1 percent of ESA-listed salmonids captured. The purpose of the research is to provide scientific information on the ecology, distribution, population genetics, and population abundance of Central California Coast coho salmon, California Coastal Chinook salmon, Northern California steelhead, and Central California Coast steelhead. Permit 1045 Modification 1 expires on February 28, 2012.

Permit 1046 Modification 2 was issued to NPS on October 30, 2006, authorizing capture (by pipe-trap, fyke-net trap, electrofishing, dip-net, or seine), handling, sampling (by collection of fin-clips, scales, or stomach contents), marking (using fin-clips, fin dye, passive integrated transponder (PIT) tags, or visible implant elastomer (VIE) tags), and release of juvenile Central California Coast coho salmon, California Coastal Chinook salmon, and Central California Coast steelhead; and capture (by weir-trap), handling, marking (using spaghetti-tags), and release of adult Central California Coast coho salmon, California Coastal Chinook salmon, and Central California Coast steelhead. Permit 1046 Modification 2 also authorizes NPS to capture, handle, sample (by collection of scales, fin-clips, or other tissue), mark, and release adult carcasses of Central California Coast coho salmon, California Coastal Chinook salmon, and Central California Coast steelhead. Permit 1046 Modification 2 is for research to be conducted in the following watersheds within or proximate to NPS lands: Olema Creek, Lagunitas Creek, Pine Gulch, Redwood Creek, and Easkoot Creek in Marin County, California; West Union Creek, Martini Creek, San Vicente Creek, and Denniston Creek in San Mateo County, California; and Alhambra Creek and Franklin Creek in Contra Costa County, California. Permit 1046 Modification 2 does not authorize intentional lethal take of ESA-listed salmonids. Permit 1046 Modification 2 authorizes unintentional lethal take of ESA-listed salmonids associated with research activities not to exceed: 5 percent of juvenile ESA-listed salmonids captured, 1 percent of adult Central California Coast coho salmon captured, 2 percent of adult California Coastal Chinook salmon captured, and 2 percent of Central California Coast steelhead captured. The purpose of the research is to support NPS' obligations as a federal agency to identify and promote the conservation of all federally listed threatened, endangered, or candidate species within park boundaries and their critical habitats. Permit 1046 Modification 2 expires on February 29, 2012.

Dated: Novemebr 7, 2006.
Angela Somma,
Chief, Endangered Species Division, Office of Protected Resources, National Marine Fisheries Service.

[FR Doc. E6-19192 Filed 11-13-06; 8:45 am]

BILLING CODE 3510-22-S